DEPARTMENT OF ENERGY

Federal Energy Regulatory Commission

[Docket No. RP00-496-000]

Total Peaking Services, L.L.C., Notice of Proposed Changes in FERC Gas Tariff

August 24, 2000.

Take notice that on August 15, 2000, Total Peaking Services, L.L.C. (TPS), tendered for filing various substitute original tariff sheets to address several minor housekeeping matters, specifically, changing Total Peaking's address, creating a new Internet Web Site, and correcting several typographical errors.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference room. This filing may be viewed on the web at http://www.ferc.fed.us/online/rims.htm (call 202-208-2222 for assistance).

Linwood A. Watson, Jr.,
Acting Secretary.

[FR Doc. 00-22103 Filed 8-29-00; 8:45 am]

BILLING CODE 6717-01-M